DEPARTMENT OF THE INTERIOR

Bureau of Land Management

[LLWY-957400-11-L14200000-BJ0000-TRST]

Notice of Filing of Plats of Survey, Nebraska

AGENCY: Bureau of Land Management, Interior.

ACTION: Notice of Filing of Plats of Survey, Nebraska.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plats and field notes representing the dependent resurvey of the Treaty Boundary of March 8, 1865, through Range 7 East, portions of the exterior boundaries, the subdivisional lines and the subdivision of certain sections, and the survey of the subdivision of certain sections, Township 26 North, Range 7 East, Sixth Principal Meridian, Nebraska, Group No. 166, was accepted September 29, 2010.

Copies of the preceding described plats and field notes are available to the public at a cost of $1.10 per page.

Dated: October 21, 2010.
John P. Lee,
Chief Cadastral Surveyor, Division of Support Services.

[FR Doc. 2010-27341 Filed 10-28-10; 8:45 am]

BILLING CODE 4310-22-P